DEPARTMENT OF COMMERCE

National Telecommunications and Information Administration

Broadband Researchers' Data Workshop

AGENCY: National Telecommunications and Information Administration, U.S. Department of Commerce.

ACTION: Notice of Public Meeting.

SUMMARY: The National Telecommunications and Information Administration (NTIA) will host a public meeting concerning the nature of data related to broadband Internet access and use that the agency collects, data needs of researchers, and future broadband research.

DATES: The meeting will be held on June 3, 2010, from 1 p.m. to 3 p.m. Eastern Daylight Time.

ADDRESSES: The meeting will be held at the U.S. Department of Commerce, 1401 Constitution Avenue, NW., Herbert C. Hoover Building, Room 4830, Washington, DC. (Please enter at 14th Street.) The disability accessible entrance is located at the 14th Street Aquarium Entrance. Any change in the location will be posted on NTIA's Web site (http://www.ntia.doc.gov) prior to the meeting.

FOR FURTHER INFORMATION CONTACT: For further information regarding the meeting, contact James McConnaughey, NTIA, at (202) 482-3161 or JMcConnaughey@ntia.doc.gov.

SUPPLEMENTARY INFORMATION: President Obama has expressly committed to the expansion of advanced technology across the United States as a necessary part of the foundation for long-term economic stability and prosperity.¹ The increased availability and use of broadband technology is an integral part of the President's technology agenda. The National Telecommunications and Information Administration is the President's principal adviser on domestic and international telecommunications policies pertaining to the Nation's economic and technological advancement. In order to achieve the technology and broadband goals of the Administration, NTIA is working with the Federal Communications Commission (FCC), the Department of Agriculture's Rural Utilities Service (RUS), and other stakeholders to develop and implement economic and regulatory policies that foster broadband deployment and adoption. Current and detailed data by U.S. households' and persons' usage of and access to broadband is critical to allow policymakers not only to gauge progress made to date, but to identify problem areas.

¹ See Guiding Principles, “Innovation in the Economy: Drive Economic Growth and Solve National Problems by Deploying a 21st Century Information Infrastructure,” http://www.whitehouse.gov/issues/technology.

Eight times since the early 1990s, the U.S. Commerce Department's Census Bureau has collected data based on questions that NTIA sponsored and developed (often in collaboration with the Department's Economics and Statistics Administration) to provide up-to-date information on the extent of the Nation's Internet adoption and the major reasons why current non-users choose not to adopt. Data have been generated by several demographic and geographic categories and must be weighted and appropriately aggregated before release. These various data, to the extent allowed under federal disclosure laws, are made publicly available for use by the research community to conduct economic, financial, demographic, and other studies. The purpose of the public meeting is to provide an opportunity for the research community to propose, with rationale, the type of Internet usage data that could be usefully collected through scientific-based surveys conducted by the Census Bureau (e.g., the Current Population Survey Internet Use Supplement).

NTIA is authorized to conduct studies and evaluations concerning telecommunications research and development and for more than 15 years has collected and analyzed nationwide Internet data, including since 2000 usage of high-speed connectivity. These activities have provided essential data for prudent policymaking in this area, including providing the data to the research community whose work provides invaluable inputs for sound policies. NTIA currently collects broadband related data from several sources, as demonstrated in the agency's October 30, 2009, Broadband Data Transparency Public Workshop.²

² See http://www.ntia.doc.gov/advisory/broadbanddata/.

Matters to be Considered:

The meeting will include a discussion of the following topics, including specific areas of inquiry:

1. Internet access at home and outside the home.

2. Internet use at home and outside the home.

3. Computer access at home and outside the home.

4. Computer use at home and outside the home.

5. Key demographic variables.

6. Key geographic variables.

7. Non-adoption issues: Internet.

8. Non-adoption issues: Computers.

The meeting will also seek input on:

A. The timing (“periodicity”) of future data collections.

B. The data format preferred by researchers including those for distributing broadband-related data on the Web to promote maximum transparency for researchers and the interested public.

C. An updated version of the October 2003 Current Population Survey Computer and Internet Use Supplement survey instrument (pp. 8 through 23), http://www.bls.census.gov/cps/computer/2003/quest2003.pdf.

Specific information regarding the status of and data from specific applications for the Broadband Technology Opportunities Program (BTOP) and the State Broadband Data and Development Grant Program (State Broadband Data Program) will not be discussed at the meeting.

Time and Date: The meeting will be held on June 3, 2010, from 1 p.m. to 3 p.m. Eastern Daylight Time. The times and the agenda topics are subject to change. The meeting may be webcast. Please refer to NTIA's web site, http://www.ntia.doc.gov, for the most up-to-date meeting agenda and webcast information.

Place: The meeting will be held at the United States Department of Commerce, 1401 Constitution Avenue, NW., Room 4830, Washington, DC. The meeting will be open to the public and press on a first-come, first-served basis. Space is limited. Attendees should bring a photo ID and arrive early to clear security. The public meeting is physically accessible to people with disabilities. Individuals requiring accommodation, such as sign language interpretation or other ancillary aids, are asked to notify Mr. McConnaughey at (202) 482-1880 or JMcConnaughey@ntia.doc.gov, at least five (5) business days before the meeting.

Dated: May 21, 2010.
Kathy D. Smith,
Chief Counsel, National Telecommunications and Information Administration.

[FR Doc. 2010-12642 Filed 5-25-10; 8:45 am]

BILLING CODE 3510-60-P